DEPARTMENT OF TRANSPORTATION

Coast Guard

[USCG-2002-13191]

Review of Great Lakes Pilotage Bridge Hour Standards

AGENCY: Coast Guard, DOT.

ACTION: Notice of meetings.

SUMMARY: The Coast Guard is holding four public meetings at which interested parties will be given the opportunity to speak about issues relevant to Great Lakes Pilotage Bridge Hour Standards. The Coast Guard is conducting a review to determine the appropriate bridge hour standards for pilotage on the Great Lakes.

DATES: The meeting dates are:

1. September 5, 2002, 4 p.m. to 7 p.m., Massena, NY.

2. October 10, 2002, time to be announced in later notice, Duluth, MN.

3. October 21, 2002, 10 a.m. to 1 p.m., Cleveland, OH.

4. October 24, 2002, 10 a.m. to 1 p.m., Washington, DC.

Allow enough time to pass through security at Federal buildings. Written material and requests to make oral presentations should reach the Coast Guard not later than 2 working days before the meeting you plan to attend. These meetings may close early if all business is finished.

ADDRESSES: The meeting locations are:

1. Massena—St. Lawrence Hotel, corner of Main Street and West Orvis Street, Massena, NY 13662.

2. Duluth—location to be announced in later notice.

3. Cleveland—Marine Safety Office, Coast Guard Twin Anchors Club, 1055 E. 9th Street, Cleveland, OH 44114.

4. Washington—U.S. Department of Transportation Headquarters (Nassif) Building, room 6200-6204, 400 Seventh Street SW., Washington, DC 20590.

Send requests to make oral presentations, comments, and written material for distribution to LCDR Mary K. Jager, Commandant (G-MW), U.S. Coast Guard Headquarters, 2100 Second Street SW., Washington, DC 20593-0001. This notice, and the convening letter for the Coast Guard's review of Great Lakes Pilotage bridge hour standards, including review questions, are available on the Internet at http://dms.dot.gov.

FOR FURTHER INFORMATION CONTACT: LCDR Mary K. Jager, telephone 202-267-0715, fax 202-267-4700.

SUPPLEMENTARY INFORMATION:

The Review

The review is being conducted to study the Coast Guard's management and methodology for the development of Great Lakes pilotage bridge hour standards and to produce a recommendation of the appropriate standards. Bridge hour standards are a critical element in determining the number of U.S. pilots needed to provide service to commercial vessels engaged in foreign trade on the Great Lakes. The current bridge hour standards are published in the appendix, Ratemaking Analyses and Methodology, to 46 CFR part 404.

Procedural

RADM J. T. Riker, USCGR will chair the four public meetings. The four public meetings are open for public participation. Please note that the meetings may close early if all business is finished. At the Chair's discretion, members of the public may make oral presentations during the meeting. The speaker's time may be limited. Please bring a written copy of remarks to be entered into the record in the event that you are not able to complete them verbally. If you would like to make an oral presentation at a meeting, please notify LCDR Mary K. Jager no later than 2 working days before that meeting. If you would like a copy of your material distributed at a meeting, please submit 15 copies to LCDR Mary K. Jager no later than 2 working days before that meeting.

Information on Services for Individuals With Disabilities

For information on facilities or services for individuals with disabilities or to request special assistance at a meeting, contact LCDR Mary K. Jager as soon as possible.

Dated: August 19, 2002.
Paul J. Pluta,
Rear Admiral, U.S. Coast Guard, Assistant Commandant for Marine Safety, Security and Environmental Protection.

[FR Doc. 02-21687 Filed 8-23-02; 8:45 am]

BILLING CODE 4910-15-P